DEPARTMENT OF ENERGY

Federal Energy Regulatory Commission

[Project No. 2307-086]

Alaska Electric Light & Power Company; Notice of Intent To Prepare an Environmental Assessment

On October 13, 2023, and supplemented on April 26, 2024, Alaska Electric Light & Power Company (licensee) filed an application for a non-capacity amendment for the Annex Creek and Salmon Creek Hydroelectric Project No. 2307. The project is located on Annex and Salmon Creeks in the City and Borough of Juneau, Alaska. The project occupies federal land within the Tongass National Forest, administered by the U.S. Forest Service.

The licensee proposes to replace the upper Salmon Creek penstock, which runs from the valvehouse to the abandoned upper powerhouse. The licensee states that the penstock, which is over 100 years old, must be replaced to ensure safe and reliable operation of the project for the remainder of the project license. As proposed, the licensee would replace the entire upper penstock with modern welded steel pipe that meets modern engineering and construction standards. Additionally, the licensee states that penstock bridges over Salmon Creek that have not been recently rebuilt would be replaced with new bridges to support the new penstock. A Notice of Application for Non-Capacity Amendment of License Accepted for Filing, Soliciting Comments, Motions to Intervene, and Protests was issued on April 30, 2024.

This notice identifies Commission staff's intention to prepare an environmental assessment (EA) for the project. The planned schedule for the completion of the EA is October 2024.¹ Revisions to the schedule may be made as appropriate. The EA will be issued and made available for review by all interested parties. All comments filed on the EA will be reviewed by staff and considered in the Commission's final decision on the proceeding.

¹ 42 U.S.C. 4336a(g)(1)(B) requires lead federal agencies to complete EAs within 1 year of the agency's decision to prepare an EA. This notice establishes the Commission's intent to prepare an EA for the project; therefore, the EA must be issued within 1 year of the issuance date of this notice.

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Marybeth Gay at (202) 502-6125 or Marybeth.gay@ferc.gov.

Dated: April 30, 2024.
Debbie-Anne A. Reese,
Acting Secretary.

[FR Doc. 2024-09829 Filed 5-6-24; 8:45 am]

BILLING CODE 6717-01-P